DEPARTMENT OF COMMERCE

International Trade Administration

Third Japan-U.S. Decommissioning and Remediation Fukashima Recovery Forum; February 24-25, 2016

AGENCY: International Trade Administration, Department of Commerce.

ACTION: Notice.

SUMMARY: The U.S. Department of Commerce's International Trade Administration (ITA), in partnership with the U.S. Department of Energy, is organizing the third Japan-United States Decommissioning and Remediation Fukushima Recovery Forum (“Fukushima Recovery Forum”) on February 24-25, 2016 in Tokyo, Japan. Building on the second Fukushima Recovery Forum held in April 2015, the third Fukushima Recovery Forum aims to continue to develop U.S.-Japanese cooperation on Fukushima recovery efforts, the decommissioning of other Japanese reactors, and the restart of Japan's reactor fleet. The event will be a venue for U.S. firms to hear from Japanese Ministries, utilities, and commissioning entities on the status of Japan's civil nuclear energy program. In addition, the event will be a forum for U.S. and Japanese firms to share experiences, expertise, and lessons learned in remediation and decommissioning, including work underway at Fukushima Dai-ichi Nuclear Power Station, and in Tohoku, the area affected by the accident at Fukushima. The event also aims to address interest in cooperation in areas related to nuclear power as Japan moves forward with its plan for decommissioning or restarting its nuclear reactors. U.S. firms will also be given an opportunity to network with Japanese firms and identify potential business partners.

ITA is seeking the participation of a maximum of 25 U.S. companies that produce technology or provide services in the decommissioning or remediation sector as well as in areas related to nuclear restarts. Staff from the U.S. Department of Commerce's Global Markets, Industry & Analysis (I&A), and U.S. & Foreign Commercial Service (CS) units will also be available in Tokyo to provide export counseling and civil nuclear trade policy guidance to participating companies.

Support for the Fukushima Recovery Forum was confirmed at meetings of the U.S-Japan Bilateral Commission on Civil Nuclear Cooperation. The Bilateral Commission serves as a senior-level, forum for consultations on mutual issues of concern to further strengthen bilateral cooperation and advance shared interests in the area of civil nuclear cooperation. The Bilateral Commission is chaired by the Department of Energy and Japan's Ministry of Economy, Trade, and Industry (METI). There are five working groups under the Bilateral Commission that coordinate bilateral cooperation in the areas of civil nuclear energy research and development, the decommissioning of the Fukushima Dai-ichi Nuclear Power Station, environmental management, emergency management, nuclear security, and safety and regulatory issues.

The Decommissioning and Environmental Management Working Group (DEMWG) under the Bilateral Commission addresses the long-term consequences of the Fukushima accident, including facility decommissioning, spent fuel storage, decontamination, and remediation of contaminated areas. The Fukushima Recovery Forum is under the auspices of the DEMWG to further industry cooperation in support of Fukushima recovery efforts.

Schedule
Wednesday, February 24 | Participate in discussions with U.S. and Japanese firms consisting of presentations and dialogues on specific aspects of Fukushima Recovery, including decommissioning, remediation, waste management, and water management.
| Participate in networking opportunities with Japanese firms.
| Attend a networking reception with senior leaders from Japan's Government and industry hosted by a senior U.S. Government representative from the U.S. Embassy in Tokyo.
Thursday, February 25 | Participate in briefings by Japanese Government officials and other entities on the status of the situation at the Fukushima Dai-ichi Nuclear Power Station and surrounding area.
| Participate in networking activities coordinated by ITA staff.

Web site: Please visit our official mission Web site for more information: http://www.export.gov/trademissions/.

Participation Requirements

U.S. companies, U.S. trade associations, and U.S. academic and research institutions interested in participating in the Fukushima Recovery Forum must submit an application package for consideration by the U.S. Department of Commerce. All applicants will be evaluated based on their ability to meet certain conditions and best satisfy the selection criteria as outlined below. A maximum of 25 entities will be selected to participate in the Forum from the applicant pool. U.S. companies already doing business in Japan as well as U.S. companies seeking to enter to the Japanese market for the first time may apply. Applications will be reviewed on a rolling basis in the order they are received.

Fees and Expenses

After a U.S. company, U.S. trade association, or U.S. academic and research institutions has been selected to participate in the Forum, a participation fee is required. The participation fee is $1,130 for a large firm, a trade association, or a U.S. university or research institution and $860 for small or medium-sized firms or non-profit educational institution. The fee for each additional representative is $600. As space permits, up to four additional representatives can be accommodated per company, trade association, or university or research institution. Fees will cover the cost for interpreters, a booklet containing information about participating U.S. and Japanese firms, and reception costs.

Application

All interested firms and associations may register via the following link: http://export.gov/japan/fukushima/forum/.

Exclusions

The participation fee does not include personal travel expenses such as airfare, lodging, most meals, incidentals, and local ground transportation and personal interpreters used during the networking sessions. Delegation members will be able to take advantage of U.S. Embassy rates for hotel rooms. Business visas may be required. Government fees and processing expenses to obtain visas are also not included in the Fukushima Recovery Forum costs. However, the U.S. Department of Commerce will provide instructions to each participant on the procedures required to obtain necessary business visas.

Timeline for Recruitment and Applications

Recruitment for the Fukushima Recovery Forum will be conducted in an open and public manner, including publication in the Federal Register, posting on CS Japan's Web site, notices by industry trade associations and other multiplier groups, and publicity through the ITA network. Recruitment will begin immediately and conclude no later than January 8, 2016. The U.S. Department of Commerce will review applications on a rolling basis beginning on January 8, 2016 until the maximum of 25 participants is selected. Applications received after January 15, 2016 will be considered only if space and scheduling constraints permit.

Conditions for Participation

Applicants must submit a completed mission application signed by a company official, together with supplemental application materials, including adequate information on the company's products and/or services, interest in doing business in Japan, and goals for participation by January 8, 2016. If the U.S. Department of Commerce receives an incomplete application, it may reject the application, request additional information, or take the lack of information into account in its evaluation.

Each applicant must also certify that the products or services it seeks to export through its participation in the Fukushima Recovery Forum are either produced in the United States, or, if not, marketed under the name of a U.S. firm and that the promotion of the products or services the applicant seeks to export would be consistent with ITA's mission to strengthen the international competitiveness of U.S. industry and promote U.S. exports. In the case of a trade association, the applicant must certify that, for each company to be represented by the trade association or trade organization, the products and services the represented company seeks to export are either produced in the United States, or, if not, marketed under the name of a U.S. firm and that the promotion of the products or services the applicant seeks to export would be consistent with ITA's mission to strengthen the international competitiveness of U.S. industry and promote U.S. exports. In the case of an academic or research institution, the applicant must certify that as part of its activities at the event, it will represent the interests of the organization's staff that meet the criteria above. Applicants from a company, organization or institution that is majority owned or controlled by a foreign government entity will not be considered for participation.

FOR FURTHER INFORMATION CONTACT: Mr. Jonathan Chesebro, Senior Nuclear Trade Specialist, Industry & Analysis | Office of Energy and Environmental Industries, U.S. Department of Commerce | International Trade Administration, Phone: (202) 482-1297, Email: jonathan.chesebro@trade.gov.

Mr. Robert McEntire, Project Officer—Office of Trade Promotion Programs, U.S. Department of Commerce, Washington, DC, Tel: (202) 482-5226, Email: Robert.McEntire@trade.gov.

Frank Spector,
Acting Director, Trade Missions Program.

[FR Doc. 2015-31148 Filed 12-9-15; 8:45 am]

BILLING CODE 3510-DR-P